DEPARTMENT OF AGRICULTURE

Forest Service

Comprehensive River Management Plan (CRMP) for Middle Fork Snoqualmie and Pratt Wild and Scenic Rivers on Mt. Baker-Snoqualmie National Forest, Forest Service, King County, Washington

AGENCY: Forest Service, Agriculture (USDA).

ACTION: Notice of availability.

SUMMARY: In accordance with Section 3(d)(1) of the Wild and Scenic Rivers Act, the USDA Forest Service announces the completion and availability of a comprehensive river management plan (CRMP) for the Middle Fork Snoqualmie and Pratt Wild and Scenic Rivers.

FOR FURTHER INFORMATION CONTACT: Information may be obtained by contacting Sarah Lange, Recreation Planner, Mt. Baker-Snoqualmie National Forest Supervisor's Office, 2930 Wetmore Avenue, Suite #3, Everett, Washington, 98201, 425-293-4156, or at sarah.lange@usda.gov.

Persons with disabilities who require alternative means of communication for program information (e.g., Braille, large print, audiotape, American Sign Language, etc.) should contact USDA's TARGET Center at 202-720-2600 (voice and TTY) or contact USDA through the Federal Relay Service at 800-877-8339. Additionally, program information may be made available in languages other than English.

SUPPLEMENTARY INFORMATION: On September 29, 2022, Mt. Baker-Snoqualmie Forest Forest Supervisor Jody Weil signed a decision notice to adopt the CRMP for the Middle Fork Snoqualmie and Pratt Wild and Scenic Rivers on National Forest System Lands. The CRMP for the Middle Fork Snoqualmie and Pratt Wild and Scenic Rivers addresses resource protection, development of lands and facilities, user capacities, and other management practices necessary or desirable to achieve the purposes of the Wild and Scenic Rivers Act. This CRMP was prepared after consultation with Tribes and State and local governments and the interested public. An Environmental Assessment (EA) was prepared as part of the CRMP development in compliance with the National Environmental Policy Act and other relevant federal laws and regulations. The EA discloses the direct, indirect, and cumulative environmental effects that would result from adopting the CRMP. The CRMP, EA and decision notices are available for review at the following website: https://www.fs.usda.gov/project/?project=53997. Also, the documents are available at the Mt. Baker-Snoqualmie National Forest Supervisor's Office, 2930 Wetmore Avenue, Suite #3, Everett, Washington, 98201.

Dated: January 26, 2023.
Troy Heithecker,
Associate Deputy Chief, National Forest System.

[FR Doc. 2023-01989 Filed 1-30-23; 8:45 am]

BILLING CODE 3411-15-P